DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce (the Department) has received requests to conduct administrative reviews of various antidumping and countervailing duty orders and findings with December anniversary dates. In accordance with our regulations, we are initiating those administrative reviews. The Department also received a request to revoke one antidumping duty order in part.

EFFECTIVE DATE: January 31, 2001.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2000), for administrative reviews of various antidumping and countervailing duty orders and findings with December anniversary dates. The Department also received a timely request to revoke in part the antidumping duty order on Porcelain-on-Steel Cooking Ware from the People's Republic of China.

Initiation of Reviews

In accordance with section 19 CFR 351.221(c)(1)(i), we are initiating administrative reviews of the following antidumping and countervailing duty orders and findings. We intend to issue the final results of these reviews not later than December 31, 2001.

| Period to be reviewed
Antidumping Duty Proceedings
Chile: Certain Preserved Mushrooms, A-337-804 | 12/1/99-11/30/00
Nature's Farm Products
Ravine Foods
Compania Envasadora del Atlantico
India: Stainless Steel Wire Rod, A-533-808 | 12/1/99-11/30/00
Viraj Group, Ltd.
Japan: Polychloroprene Rubber, A-588-046 | 12/1/99-11/30/00
Denki Kagaku Kogyo Kabushiki Kaisha
Tosoh Corporations
Mexico:
Circular Welded Non-Alloy Steel Pipe,¹ A-201-805 | 11/1/99-10/31/00
Tuberias Procarsa, S.A. de C.V.
Tuberia Nacional S.A. de C.V.
Porcelain-On-Steel Cooking Ware, A-201-504 | 12/1/99-11/30/00
Cinsa, S.A. de C.V.
Esmaltaciones de Norte America, S.A. de C.V.
The People's Republic of China:
Certain Cased Pencils,² A-570-827 | 12/1/99-11/30/00
China First Pencil Company, Ltd.
China Second Pencil Company, Ltd.
Shanghai Three Star Stationery Company, Ltd.
Beijing Pencil Factory
Dalian Pencil Factory
Donghua Pencil Factory
Harbin Pencil Factory
Jiangsu Pencil Factory
Jinan Pencil Factory
Juihai Pencil Factory
Julong Pencil Factory
Kaiyuan Group Corporation
Qingdao Pencil Factory
Shenyiang Pencil Factory
Songnan Pencil Factory
Tianjin Pencil Factory
Xinbang Joint Venture Pencil Factory
Anhui Bengbu Pencil Factory
Anhui Stationery Company
Anhui Import/Export Group Corporation
Anhui Light Industrial Products I/E Corporation
Anhui Provincial Imports & Exports Corporation
Beijing Light Industrial Products I/E Corp.
China National Light Industrial Products Import & Export Corporation (all branches)
Dalian Light Industrial Products Import/Export Corporation
Guangdong Provincial Stationery & Sporting Goods Import & Export Corporation
Guangdong Textile Factory
Jiangsu Light Industrial Products Import/Export Group Corp.
Jilin Provincial Machinery & Equipment Import & Export Corporation
Liaoning Light Industrial Products Import/Export Corporation
New Century
Qingdao Light Industrial Products Import/Export Corporation
Shandong Light Industrial Products Import/Export Corporation
Shanghai JV Stationery Co., Ltd./Shanghai Jay-Vee Stationery Co., Ltd.
Shanghai Three Star Stationery Company, Ltd.
Sichuan Light Industrial Products Import/Export Corporation
Tianjin Stationery and Sporting Goods Import/Export Corporation
Zhenjiang Foreign Trade Corporation
Laizhou City Guangming Pencil-Making Lead Co., Ltd.
Porcelain-on-Steel Cooking Ware,³ A-570-506 | 12/1/99-11/30/00
Clover Enamelware Enterprise Ltd.
Lucky Enamelware Factory, Ltd.
Countervailing Duty Proceedings
None.
Suspension Agreements
None.
¹ Inadvertently omitted from previous initiation notice.
² If one of the above named companies does not qualify for a separate rate, all other exporters of certain cased pencils from the People's Republic of China who have not qualified for a separate rate are deemed to be covered by this review as part of the single PRC entity of which the named exporters are a part.
³ If one of the above named companies does not qualify for a separate rate, all other exporters of porcelain-on-steel cooking ware from the People's Republic of China who have not qualified for a separate rate are deemed to be covered by this review as part of the single PRC entity of which the named exporters are a part.

During any administrative review covering all or part of a period falling between the first and second or third and fourth anniversary of the publication of an antidumping duty order under 351.211 or a determination under 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: January 25, 2001.
Gary Taverman,
Acting Deputy Assistant Secretary, Group II for Import Administration.

[FR Doc. 01-2685 Filed 1-30-01; 8:45 am]

BILLING CODE 3510-DS-P